LEGAL SERVICES CORPORATION

Sunshine Act Meeting

DATE AND TIME: The Legal Services Corporation's Finance Committee will meet telephonically on July 14, 2020. The meeting will commence at 3:00 p.m., EDT, and will continue until the conclusion of the Committee's agenda.

LOCATION: PUBLIC NOTICE OF VIRTUAL REMOTE MEETING Legal Services Corporation Headquarters (LSC) will be conducting the July 14, 2020 meeting remotely via ZOOM.

PUBLIC OBSERVATION: Unless otherwise noted herein, the Finance Committee meeting will be open to public observation. Members of the public who wish to participate remotely may do so by following the directions provided below.

DIRECTIONS FOR OPEN SESSION:

• To join the Zoom meeting by computer please click this link.

• Meeting ID: 893 8453 8011

• Password: Justice74

• To join the Zoom meeting with one touch from your mobile phone, click below:

+13126266799,89384538011#,1#,812073#

• To join the Zoom meeting by phone, use this information:

Dial by your location

+1 312 626 6799 US (Chicago)

+1 929 205 6099 US (New York)

+1 301 715 8592 US (Germantown)

+1 346 248 7799 US (Houston)

+1 669 900 6833 US (San Jose)

+1 253 215 8782 US (Tacoma)

• Meeting ID: 893 8453 8011

• Password: 812073

Find your local number: https://us02web.zoom.us/u/kYQkyBeCq

• When connected to the call, please immediately “MUTE” your telephone.

Members of the public are asked to keep their telephones muted to eliminate background noises. To avoid disrupting the meeting, please refrain from placing the call on hold if doing so will trigger recorded music or other sound. From time to time, the Chair may solicit comments from the public.

STATUS OF MEETING: Open.

MATTERS TO BE CONSIDERED:

1. Approval of agenda

2. Approval of minutes of the Committee's meeting of June 16, 2020

3. Public comment regarding Fiscal Year 2022 budget request

4. Consider and act on Fiscal Year 2022 Budget Request Resolution 2020-XXX

5. Public comment on other matters

6. Consider and act on other business

7. Consider and act on adjournment of meeting.

CONTACT PERSON FOR INFORMATION: Karly Satkowiak, Special Counsel at (202) 295-1633 and Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting.

If a request is made without advance notice, LSC will make every effort to accommodate the request but cannot guarantee that all requests can be fulfilled.

Dated: July 1, 2020.
Katherine Ward,
Executive Assistant to the Vice President for Legal Affairs and General Counsel.

[FR Doc. 2020-14574 Filed 7-1-20; 4:15 pm]

BILLING CODE 7050-01-P